DEPARTMENT OF HEALTH AND HUMAN SERVICES

Centers for Disease Control and Prevention

[30Day-07-0017]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Application for Training—Revision—Office of Workforce and Career Development (OWCD), Centers for Disease Control and Prevention (CDC).

Background and Brief Description

The Centers for Disease Control and Prevention (CDC) through its Office of Workforce and Career Development (OWCD) and other Centers, Institutes, and Offices offers training activities on public health topics to professionals worldwide. Employees of hospitals, universities, medical centers, laboratories, state and federal agencies, and state and local health departments apply for training in an effort to learn up-to-date public health practices. CDC's training activities include laboratory training, classroom study, online training, and distance learning activities. The “National Laboratory Training Network Registration Form” (paper and electronic forms) and the “CDC Training and Continuing Education New Participant Registration Form” (electronic form) are official application forms used for training activities conducted by CDC. CDC form 32.1, “National Laboratory Training Network Registration Form”, is used for all laboratory field training. The “CDC Training and Continuing Education New Participant Registration Form” is completed by health practitioners seeking to register for training available through the CDC's online registration system. CDC was granted OMB approval to use these forms through December 31, 2006, and is now requesting OMB approval for an additional three years.

These forms in various versions have been used by CDC to collect data for the past 16 years. The information requested on the forms is used to grant public health professionals the continuing education credits they need to maintain their licenses and certification required by their professions. This information is also needed to create a transcript or summary of training completed at the participant's request. In addition, the forms are also needed to generate management reports and to maintain training statistics. These reports assist CDC in the management of its training programs, such as, identifying training needs, designing courses, selecting locations for courses, evaluating programs, and conducting impact analysis.

There are no costs to the respondents other than their time. The total estimated annualized burden is 3332 hours.

Estimated Annualized Burden Hours
Form name | Number of respondents | Number of responses per respondent | Average burden per response (in hours)
National Laboratory Training Network Registration Form (32.1) | 20,000 | 1 | 5/60
CDC Training and Continuing Education New Participant Registration Form (36.5) | 20,000 | 1 | 5/60

Dated: December 4, 2006.
Joan F. Karr,
Acting Reports Clearance Officer, Centers for Disease Control and Prevention.

[FR Doc. E6-20855 Filed 12-7-06; 8:45 am]

BILLING CODE 4163-18-P